DEPARTMENT OF JUSTICE

Antitrust Division

Notice Pursuant to the National Cooperative Research and Production Act of 1993—Countering Weapons of Mass Destruction

Notice is hereby given that, on October 29, 2018, pursuant to Section 6(a) of the National Cooperative Research and Production Act of 1993, 15 U.S.C. 4301 et seq. (“the Act”), Countering Weapons of Mass Destruction (“CWMD”) has filed written notifications simultaneously with the Attorney General and the Federal Trade Commission disclosing changes in its membership. The notifications were filed for the purpose of extending the Act's provisions limiting the recovery of antitrust plaintiffs to actual damages under specified circumstances. Specifically, Artis LLC, Herndon, VA; ATCC, Manassas, VA; BaySpec, Inc., San Jose, CA; CAM2 Technologies, LLC dba Czitek, Danbury, CT; Government Scientific Source (GSS), Reston, VA; IMSAR LLC, Springville, UT; K2 Group, Inc., Vienna, VA; Kitware, Inc., Clifton Park, NY; Kopis Mobile LLC, Flowood, MS; L3 Sonoma E.O., Santa Rosa, CA; Liteye Systems, Inc., Centennial, CO; Manufacturing Techniques (MTEQ), Lorton, VA; MKS Technology, Inc., Laramie, WY; Mountain Horse Solutions, Colorado Springs, CO; N5 Sensors, Rockville, MD; Phoenix, LLC, Madison, WI; PROENGIN, Inc., Plantation, FL; Protection Engineering Consultants, Austin, TX; Rock West Composites, Inc., San Diego, CA; Rocky Mountain Scientific Lab, Littleton, CO; Strategic Alliances Group, Inc., Havre de Grace, MD; and Virginia Tech Applied Research Corporation, Arlington, VA, have been added as parties to this venture.

Also, MaXentric Technologies, LLC, Fort Lee, NJ; Star Cases, LLC dba Zero Manufacturing, North Salt Lake, UT; North Carolina A & T (NC A&T), Greensboro, NC; GeoVax, Inc., Smyrna, GA; and InnovaPrep, LLC, Drexel, MO, have withdrawn as parties to this venture.

No other changes have been made in either the membership or planned activity of the group research project. Membership in this group research project remains open, and CWMD intends to file additional written notifications disclosing all changes in membership.

On January 31, 2018, CWMD filed its original notification pursuant to Section 6(a) of the Act. The Department of Justice published a notice in the Federal Register pursuant to Section 6(b) of the Act on March 12, 2018 (83 FR 10750).

The last notification was filed with the Department on August 6, 2018. A notice was published in the Federal Register pursuant to Section 6(b) of the Act on September 4, 2018 (83 FR 44904).

Suzanne Morris,
Chief, Premerger and Division Statistics Unit, Antitrust Division.

[FR Doc. 2018-26395 Filed 12-4-18; 8:45 am]

BILLING CODE 4410-11-P